DEPARTMENT OF STATE

[Public Notice 5142]

Advisory Committee on Private International Law Meeting Notice: Meeting of the Study Group on International Child Support To Discuss the Draft Hague Convention on the International Recovery of Child Support

There will be a meeting of the Study Group on International Child Support of the Secretary of State's Advisory Committee on Private International Law (ACPIL) from 3:30 to 5:30 p.m., Wednesday, August 3, 2005 in Cincinnati, Ohio. This meeting is taking place during the annual meeting of the National Child Support Enforcement Association (NCSEA). The meeting will be held in Room 211 North, Cinergy Center (Cincinnati Convention Center), 55 W. 5th Street, Cincinnati, Ohio 45202.

The purpose of the meeting is to seek input from the public to assist the Department of State and the Office of Child Support Enforcement of the Department of Health and Human Services in preparing for the next negotiating session of a new worldwide convention for the reciprocal enforcement of child support obligations. The most current working draft of the convention can be found on the OCSE Web site: http://www.acf.hhs.gov/programs/cse/international/index.html.

Some of the topics on the agenda will be:

—How should the new convention handle modification of child support orders?

—How should the new convention deal with the issue of costs of services, both administrative and legal?

—What should the minimum required services and the minimum level of services be under the new convention? How can these obligations be effectively enforced?

Dated: July 14, 2005.
Mary Helen Carson,
Attorney-Adviser, Office of the Assistant Legal Adviser for Private International Law, Department of State.

[FR Doc. 05-14868 Filed 7-26-05; 8:45 am]

BILLING CODE 4710-08-P